FEDERAL COMMUNICATIONS COMMISSION

47 CFR Part 73

[DA 04-3513; MB Docket No. 04-411, RM-11096]

Radio Broadcasting Services; Georgetown, Mason, and Oxford, OH, Salt Lick, KY and West Union, OH

AGENCY: Federal Communications Commission.

ACTION: Proposed rule.

SUMMARY: The Audio Division requests comment on a petition jointly filed by Balogh Broadcasting Company, Inc., licensee of Station WOXY(FM), Channel 249A, Oxford, Ohio, Richard L. Plessinger, Sr., licensee of Station WAXZ(FM), Channel 249A, Georgetown, Ohio, and Dreamcatcher Communications, Inc., licensee of Station WRAC(FM), Channel 276A, West Union, Ohio requesting the reallotment of Channel 249A from Oxford to Mason, Ohio, as its first local service and modification of the Station WOXY(FM) license, reallotment of Channel 249A from Georgetown, Ohio to Salt Lick, Kentucky, as its first local service and modification of the Station WAXZ(FM) license, and reallotment of Channel 276A from West Union to Georgetown, Ohio to prevent removal of sole existing local service and modification of the Station WRAC(FM) license. Channel 249A can be allotted to Mason in compliance with the Commission's minimum distance separation requirements with a site restriction of 9.4 kilometers (5.8 miles) east of Mason. The proposed reference coordinates for Channel 249A at Mason are 39-20-57 NL and 84-12-08 WL. Channel 249A can also be allotted to Salt Lick in compliance with the Commission's minimum distance separation requirements with a site restriction of 6.6 kilometers (4.1 miles) northeast of Salt Lick. The proposed reference coordinates for Channel 249A at Salt Lick are 38-10-15 NL and 83-34-31 WL. Channel 276A can also be allotted to Georgetown in compliance with the Commission's minimum distance separation requirements with a site restriction of 12.1 kilometers (7.5 miles) east of Georgetown. The proposed reference coordinates for Channel 276A at Georgetown are 38-52-14 NL and 83-45-55 WL.

DATES: Comments must be filed on or before December 27, 2004, and reply comments on or before January 11, 2005.

ADDRESSES: Federal Communications Commission, 445 Twelfth Street, SW., Washington, DC 20554. In addition to filing comments with the FCC, interested parties should serve the petitioner, his counsel, or consultant, as follows: Mark N. Lipp, Esq., Counsel, Richard L. Plessinger, Sr., Scott Woodworth Vinson & Elkins, LLP, 1455 Pennsylvania Avenue, NW., Suite 600, Washington, DC 20004, Harry C. Martin, Esq., Counsel, Balogh Broadcasting Company, Inc., Fletcher Heald & Hildreth , PLC, 1300 North 17th Street, 11th Floor, Arlington, VA 22209, Coe W. Ramsey, Esq., Counsel, Dreamcatcher Communications, Inc., Brooks Pierce McLendon Humphrey & Leonard, LLP, P.O. Box 1800, Raleigh, NC 27602.

FOR FURTHER INFORMATION CONTACT: Rolanda F. Smith, Media Bureau, (202) 418-2180.

SUPPLEMENTARY INFORMATION: This is a synopsis of the Commission's Notice of Proposed Rule Making, MB Docket No. 04-411, adopted November 3, 2004, and released November 5, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Kentucky, is amended by adding Salt Lick, Channel 249A.

3. Section 73.202(b), the Table of FM Allotments under Ohio, is amended by removing Channel 249A and by adding Channel 276A at Georgetown, by adding Mason, Channel 249A, by removing Oxford, Channel 249A, by removing West Union, Channel 276A.

Federal Communications Commission.
John A. Karousos,
Assistant Chief, Audio Division, Media Bureau.

[FR Doc. 04-25807 Filed 11-19-04; 8:45 am]

BILLING CODE 6712-01-P